DEPARTMENT OF TRANSPORTATION

Federal Transit Administration

Notice of Intent To Prepare an Environmental Impact Statement for the GA 400 Transit Initiative in Fulton County, Georgia

AGENCY: Federal Transit Administration (FTA), DOT.

ACTION: Notice of Intent (NOI) to prepare an Environmental Impact Statement (EIS) and Section 4(f) Evaluation.

SUMMARY: The Federal Transit Administration (FTA) and the Metropolitan Atlanta Rapid Transit Authority (MARTA) issue this Notice of Intent (NOI) to prepare an Environmental Impact Statement (EIS) and an evaluation per 49 U.S.C, 303 and 23 CFR 774 (“Section 4(f)”) for the extension of high capacity, rapid transit in the Georgia (GA) 400 corridor in north Fulton County, GA from Dunwoody to Alpharetta. The EIS and Section 4(f) Evaluation will be prepared in accordance with regulations implementing the National Environmental Policy Act (NEPA) and 40 CFR parts 1500 through 1508, Section 4(f), as well as FTA's regulations and guidance implementing NEPA (23 CFR 771).

The purpose of this NOI is to: (1) Advise the public and agencies that MARTA in coordination with the FTA is preparing an EIS for the proposed project; (2) provide information including previous planning studies and decision, purpose and need, and alternatives being considered; and, (3) invite public and agency participation in the EIS process, which includes a review and written comments on the scope of the EIS.

DATES: Scoping Meeting Dates: Public Scoping meetings will be held on April 14, 16, and 30, 2015 at locations within the study area. The Scoping meeting locations are accessible by transit and to persons with disabilities. Confirmed times and locations will be published in local notices and on the project Web site at http://www.itsmarta.com/north-line-400-corr.aspx.

The dates, times, and locations of the Scoping meetings are:

• Scoping Meeting 1: Tuesday, April 14, 2015 at the North Fulton Government Service Center located at 7741 Roswell Road #104, Sandy Springs, GA 30350.

• Scoping Meeting 2: Thursday, April 16, 2015 at the Georgia State University Alpharetta Center located at 3775 Brookside Parkway, Alpharetta, GA 30022.

• Scoping Meeting 3: Thursday, April 30, 2015 at the East Roswell Park located at 9000 Fouts Road, Roswell, GA 30076.

All meetings will be held from 6:30 p.m. to 8:00 p.m. Directional signage will be posted at all meeting locations to inform participants of the meeting room number and location.

All meeting locations are considered private property. With the exception of on-duty law enforcement and/or security officials, weapons will not be allowed on the premises of any meeting locations under any circumstances. If there are questions concerning weapons policies for Scoping meeting locations or if translation, signing services, or other special accommodations are needed, please contact MARTA's Office of External Affairs, Toni Thornton at tthornton@itsmarta.com or 404-848-5423 at least one week before the scoping meetings.

Written Comments: Written or electronic mail (email) comments should be sent to Mark Eatman, Project Manager, MARTA, 2424 Piedmont Road NE., Atlanta GA 30324-3330 or by email at mreatman@itsmarta.com. If submitting an email comment, please type “Scoping Meeting Comment for MARTA” in the subject line of the email. MARTA maintains a Facebook page for the GA 400 Corridor project and will notify Facebook followers, in conjunction with publication of this notice, to submit comments to the aforementioned email address as well. The address for the Facebook page is https://www.facebook.com/Connect400. Information on the project may also be found on the project Web site, http://www.itsmarta.com/north-line-400-corr.aspx.

FOR FURTHER INFORMATION CONTACT: Mr. Stan Mitchell, Environmental Protection Specialist, FTA Region IV, 230 Peachtree Street NW., Suite 1400, Atlanta, GA 30303 or email: stanley.a.mitchell@dot.gov, telephone 404-865-5643.

SUPPLEMENTARY INFORMATION:

I. Scoping

FTA and MARTA will undertake a Scoping process that will allow the public and interested agencies to comment on the scope of the environmental review process. Scoping is the process of determining the scope, focus, and content of an EIS. NEPA Scoping has specific objectives, identifying issues that will be examined in detail during the EIS, while at the same time limiting consideration and development of issues that are not truly significant to the purpose and need for the project. FTA and MARTA invite all interested individuals, members of the public, Native American tribes, and Federal, State, and local agencies to review and comment on the scope of the Draft EIS.

To facilitate public and agency comment, a Scoping Information Packet will be prepared for review and will be available before each Scoping meeting and for handout at each Scoping meeting. This packet will include draft descriptions of the project purpose and need, the alternatives considered, impacts to be assessed, early alternatives that are currently not being considered, and the public outreach and agency coordination process.

II. Study Area Description

The project study area is located in Fulton County, Georgia, and includes small portions of the cities of Sandy Springs, Roswell, Milton, Dunwoody, Johns Creek and Alpharetta. The corridor study area extends approximately 12 miles along GA 400 from North Springs heavy rail station (the current northern terminus of the MARTA heavy rail service) northward to Windward Parkway near the Fulton/Forsyth county line.

III. Purpose and Need for the Proposed Project

MARTA invites comments on the following preliminary statement of the project's purpose and need:

The purpose of the GA 400 Corridor project is to provide high capacity transit (bus and/or rail) through the corridor study area, improve transit linkages and coverage to communities within the study area, and enhance mobility and accessibility to and within the study area by providing a more robust transit network that offers an alternative to automobile travel.

The GA 400 Corridor is the transportation spine of northern Fulton County, one of the fastest growing sub-regions in the metro-Atlanta region. The corridor is home to many employment centers, including Perimeter Center in the southern portion of the corridor, one of the largest employment centers in the region. Transit service to and within the study area is provided primarily by MARTA heavy rail and bus. MARTA heavy rail service extends from Downtown Atlanta to major retail and employment centers, including the Medical Center and Perimeter Center in Dunwoody and Sandy Springs in the southern portion of the corridor. MARTA bus service in the corridor study area primarily functions as feeder service to the North Springs heavy rail station from areas to the north, including Roswell, Alpharetta and Milton. The Georgia Regional Transportation Authority (GRTA) also operates two express bus routes during peak hours that connect the southern portion of the GA 400 corridor to/from north and southeast destinations outside the GA 400 corridor.

The following needs for the proposed project stem from existing conditions and deficiencies in the corridor study area:

• Travel demand—Increased travel demand and traffic congestion;

• Transit mobility—There is inadequate transit connectivity within the northern Fulton County study area and between the study area and DeKalb, Gwinnett, and Cobb Counties and central Atlanta. In addition, east-west transit connectivity is inadequate. The limited routes across the Chattahoochee River reflect the inadequate transit connectivity;

• Transit travel times—Transit travel times are not competitive with auto travel times due to the lack of express service; this is true for north-south trips within the study area and for trips with origins and destinations outside the study area. Transit and auto travel times cannot be compared for east-west trips as there is no east-west transit service; and,

• Economic development—Traffic congestion caused by insufficient transportation system capacity affects both personal travel and goods movement, which constrains economic development opportunities.

IV. Alternatives Analysis and Results

In 2011, MARTA initiated the GA 400 Corridor Transit Initiative Alternatives Analysis (AA) to analyze the corridor based on current trends and conditions. The AA study process identified ways to enhance transportation choices, improve transit service, and increase access to jobs and activity centers for commuters and residents in the GA 400 corridor. MARTA and corridor stakeholders examined a broad range of alternatives for high capacity, fixed route transit investments in the corridor. The AA study process reduced the number of potentially viable alternatives through a multilayered screening methodology and by engaging the public and stakeholders. The AA process concluded that the GA 400 right-of-way from the North Springs station to Windward Parkway near the Fulton/Forsyth County line is the preferred alignment. The transit technologies requiring further evaluation were identified as heavy rail transit (HRT), light rail transit (LRT), and bus rapid transit (BRT). Additional technical and public and stakeholder input received during Early Scoping (conducted in 2013 and 2014) established the basis for selecting a Locally Preferred Alternative (LPA) within the GA 400 Corridor.

The LPA is a HRT line that would cross to the west side of Georgia 400 north of North Springs Station but south of Spalding Dr. This alternative would have a second crossover back to the east side of GA 400 north of the Chattahoochee River. The HRT alternative received the strongest public support throughout the study process due to the higher level of transit service for corridor commuters and residents. In addition, two BRT alignments will be considered as lower-cost options as part of the DEIS. Stakeholder input received during Early Scoping, poor performance shown in technical study and preliminary analysis eliminated the LRT alternative. The MARTA Board of Directors adopted the HRT transit concept as the LPA for the GA 400 corridor along with consideration of the additional BRT alternatives on March 5, 2015.

The results of the AA study, Early Scoping, and the Preliminary Engineering and Environmental Analysis study are available at http://www.itsmarta.com/north-line-400-corr.aspx, under Documents.

V. EIS Alternatives Considered

Based on the technical analysis and input received from the public and stakeholders regarding the GA 400 corridor, the following proposed alternatives, along with a brief description for each, will be evaluated during the EIS:

No-Build Alternative: The No-Build Alternative includes all transportation improvement projects within the GA 400 Corridor project area that are programmed in the Atlanta Regional Commission's Regional Transportation Plan (RTP) with the exception of the GA 400 Corridor project. The No-Build Alternative serves as a comparison baseline for the project build alternatives.

Build Alternative 1: Build Alternative 1 is an extension of MARTA's HRT Red line. It includes segments that are at-grade, tunnel and on aerial structure. From the North Springs station, the alignment for Build Alternative 1 would cross GA 400 south of Spalding Drive to run along the west side of GA 400, cross the Chattahoochee River, and then cross back over GA 400 to run along the east side of GA 400 to Windward Parkway. The Build Alternative 1 is the LPA for the study corridor.

Build Alternative 2: Build Alternative 2 is a new BRT exclusive guideway that includes segments that are at-grade and on aerial structure. The alignment would extend from the North Springs station, cross GA 400 south of Spalding Drive to run along the west side of GA 400, cross the Chattahoochee River and then cross over GA 400 to run along the east side of GA 400 to Windward Parkway.

Build Alternative 3: Build Alternative 3 is a new BRT line operating in a future Georgia Department of Transportation (GDOT) Managed Lanes project on GA 400 that includes segments that are at-grade and on aerial structure. Except when serving the station at Windward Parkway, this alternative would not cross over GA 400.

VI. Potential Effects

FTA and MARTA will evaluate project-specific direct, indirect, and cumulative effects, including benefits, to the existing human and natural environmental setting in which the Build Alternatives could be located. The permanent or long-term effects to be investigated during this study include effects to public parks and recreation lands (Section 4(f) Evaluation), traffic and transportation, land use and socioeconomic, visual character and aesthetics, noise and vibration, historical and archaeological resources, community effects, and natural resources. Temporary effects during construction may include effects to transportation and traffic, air quality, water quality, noise and vibration, natural resources, and encounters with hazardous materials and contaminated soils.

The analysis will be undertaken in conformity with Federal environmental laws, regulations, and executive orders applicable to the proposed project during the environmental review process. These requirements include but are not limited to NEPA, Council on Environmental Quality (CEQ) regulations, FTA guidance and relevant environmental planning guidelines, Section 106 of the National Historic Preservation Act (NHPA), Section 4(f) of the Department of Transportation Act, Executive Order 12898 regarding minority and low-income populations, Executive Order 11990 regarding the protection of wetlands, the Clean Water Act, the Endangered Species Act of 1973, and the Clean Air Act of 1970 along with other applicable Federal, state, and local laws and regulations. Opportunities for review and comment on the potential effects will be provided to the public and agencies. Comments received will be considered in the development of the final scope and content of the EIS. The final scope and content of the EIS will be documented in the Scoping Summary Report and the Annotated Outline for the EIS.

VII. FTA's Public and Agency Involvement Procedures

The regulations implementing NEPA and FTA guidance call for public involvement in the EIS process. In accordance with these regulations and guidance, FTA and MARTA will: (1) Extend an invitation to other Federal and non-Federal (state and/or local) agencies and Native American Tribes that may have an interest in the proposed project to become participating agencies (any interested agency that does not receive an invitation can notify any of the contact persons listed earlier in this NOI); (2) provide opportunity for involvement by participating agencies and the public to help define the purpose and need for the proposed project, as well as the range of alternatives for consideration in the EIS; and (3) establish a plan for coordinating public and agency participation in, and comment on, the environmental review process.

Input on a Public Involvement Plan will be solicited at Scoping meetings and on the project Web site. The documents will outline public and agency involvement for the project. Once completed, these documents will be available on the project Web site or through written request to the MARTA Project Manager.

VIII. Paperwork Reduction Act

The Paperwork Reduction Act seeks, in part, to minimize the cost of the taxpayer of the creation, collection, maintenance, use, dissemination, and disposition of information. Consistent with this goal and with the principles of economy and efficiency in government, it is FTA's policy to limit, insofar as possible, distribution of complete printed sets of NEPA documents. Accordingly, unless a specific request for a complete printed set is received before the document is printed, FTA and its grant applicants (including MARTA) will only distribute electronic copies of the NEPA document. A complete printed set of the environmental documents produced for this project will be available for review at the grant applicant's office (MARTA Headquarters office listed in ADDRESSES above) and in other possible locations within the project corridor. An electronic copy of the complete environmental documents will be available on the grant applicant's project Web site at http://www.itsmarta.com/north-line-400-corr.aspx.

IX. Summary and Next Steps

With the publication of this NOI, the Scoping process and the public comment period for the project begins allowing the public to offer input on the scope of the EIS until May 11, 2015. In accordance with the Federal regulations, this date is at least 45 days following the publication of this NOI. Public comments will be received through those methods explained earlier in this NOI and will be incorporated into a Scoping Summary Report. The Scoping Summary Report will detail the scope of the EIS and the potential environmental effects that will be considered during the study period. After the completion of the Draft EIS, a public and agency review period will allow for input on the Draft EIS and these comments will be incorporated into the Final EIS for this project. In accordance with Section 1319 of the Moving Ahead for Progress in the 21st Century Act (MAP-21), Accelerated Decision-making in Environmental Reviews, FTA may consider the use of errata sheets attached to the DEIS in place of a traditional Final EIS and/or development a single environmental decision document that consists of a Final EIS and a Record of Decision (ROD), if certain conditions exist following the conclusion of the public and agency review period for the project's Draft EIS.

Yvette G. Taylor,
Regional Administrator, Federal Transit Administration, Atlanta, GA.

[FR Doc. 2015-07287 Filed 3-30-15; 8:45 am]

BILLING CODE 4910-57-P